DEPARTMENT OF JUSTICE

Notice of Lodging of Consent Decree Under the Clean Water Act

Notice is hereby given that on August 10, 2010, a proposed Consent Decree in United States of America and State of Hawaii v. City and County of Honolulu, Civil No. 94-00765 DAE-KSC (D. Hawaii), was lodged with the United States District Court for the District of Hawaii.

In the Supplemental Complaint filed in this action, the United States sought injunctive relief and civil penalties against the City and County of Honolulu (“CCH”) for violations of the Clean Water Act and its National Pollutant Discharge Elimination System permits at its publicly owned treatment works on Oahu, Hawaii. The Supplemental Complaint alleged that CCH discharged pollutants from its sanitary sewage collection system, failed to comply with permit effluent limitations at two wastewater treatment plants, and failed to meet permit construction deadlines for its Sand Island treatment plant. The State of Hawaii has joined as a co-plaintiff and brings its own claims under State law. In the proposed Consent Decree, CCH agrees to implement a set of comprehensive injunctive measures in its collection system including: repair and replacement of sewer gravity mains, force mains, and pump stations; development of condition assessments and spill contingency plans for force mains; development of condition assessments and a systematic cleaning program for gravity mains; and development of a control program for the discharge of grease. In addition, CCH agrees to complete construction of facilities at two wastewater treatment plants required to comply with secondary treatment standards of the Clean Water Act. Finally, the Consent Decree requires CCH to pay a $1.6 million civil penalty, half to the United States and half to the State.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, with a copy to Robert Mullaney, U.S. Department of Justice, 301 Howard Street, Suite 1050, San Francisco, CA 94105, and should refer to United States of America and State of Hawaii v. City and County of Honolulu, D.J. Ref. 90-5-1-1-09981.

The Consent Decree may be examined at the Office of the United States Attorney, 300 Ala Moana Boulevard, PJKK Federal Building, Room 6-100, Honolulu, Hawaii, and at U.S. EPA Region 9, Office of Regional Counsel, 75 Hawthorne Street, San Francisco, California. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $37.75 (25 cents per page reproduction cost) payable to the U.S. Treasury or, if by e-mail or fax, forward a check in that amount to the Consent Decree Library at the stated address. In requesting a copy exclusive of appendices, please enclose a check in the amount of $24.50 (25 cents per page reproduction cost) payable to the U.S. Treasury.

Maureen Katz,
Assistant Chief, Environmental Enforcement Section. Environment and Natural Resources Division.

[FR Doc. 2010-20170 Filed 8-13-10; 8:45 am]

BILLING CODE 4410-15-P